DEPARTMENT OF ENERGY

Federal Energy Regulatory Commission

Combined Notice of Filings #1

Take notice that the Commission received the following electric corporate filings:

Docket Numbers: EC24-125-000.

Applicants: Darby Power, LLC, Gavin Power, LLC, Lawrenceburg Power, LLC, Waterford Power, LLC, Lightstone Marketing LLC, ECP ControlCo, LLC.

Description: Darby Power, LLC, et al. submit response to FERC's 01/06/2025 deficiency letter, request for shortened comment period and request for expedited Commission action.

Filed Date: 1/17/25.

Accession Number: 20250117-5149.

Comment Date: 5 p.m. ET 2/7/25.

Take notice that the Commission received the following exempt wholesale generator filings:

Docket Numbers: EG25-78-000.

Applicants: Powell Creek Solar, LLC.

Description: Powell Creek Solar, LLC submits Notice of Self-Certification of Exempt Wholesale Generator Status.

Filed Date: 1/17/25.

Accession Number: 20250117-5199.

Comment Date: 5 p.m. ET 2/7/25.

Take notice that the Commission received the following electric rate filings:

Docket Numbers: ER24-2217-001.

Applicants: SunZia Transmission, LLC.

Description: Compliance filing: Orders 2023 & 2023—A Second Compliance Filing (ER24-2217-) to be effective 1/20/2025.

Filed Date: 1/21/25.

Accession Number: 20250121-5111.

Comment Date: 5 p.m. ET 2/11/25.

Docket Numbers: ER25-216-001.

Applicants: Southwest Power Pool, Inc.

Description: Compliance filing: Compliance Filing—Revisions to Clarify Language Regarding MSRs to be effective 12/31/9998.

Filed Date: 1/21/25.

Accession Number: 20250121-5064.

Comment Date: 5 p.m. ET 2/11/25.

Docket Numbers: ER25-703-001.

Applicants: Southwest Power Pool, Inc.

Description: Tariff Amendment: 1628R27 Western Farmers Electric Cooperative NITSA NOAs to be effective 12/1/2024.

Filed Date: 1/21/25.

Accession Number: 20250121-5113.

Comment Date: 5 p.m. ET 2/11/25.

Docket Numbers: ER25-971-000.

Applicants: PacifiCorp.

Description: § 205(d) Rate Filing: Construction Agreement Logan City Bypass (RS No. 793) to be effective 3/19/2025.

Filed Date: 1/17/25.

Accession Number: 20250117-5187.

Comment Date: 5 p.m. ET 2/7/25.

Docket Numbers: ER25-972-000.

Applicants: Citi Prepaid Energy LLC.

Description: Initial Rate Filing: Market-Based Rate Application to be effective 3/19/2025.

Filed Date: 1/17/25.

Accession Number: 20250117-5212.

Comment Date: 5 p.m. ET 2/7/25.

Docket Numbers: ER25-973-000.

Applicants: RWE Clean Energy Development, LLC.

Description: Request for Limited Waiver, Shortened Comment Period, and Expedited Consideration of RWE Clean Energy Development, LLC.

Filed Date: 1/17/25.

Accession Number: 20250117-5224.

Comment Date: 5 p.m. ET 2/7/25.

Docket Numbers: ER25-974-000.

Applicants: PJM Interconnection, L.L.C.

Description: § 205(d) Rate Filing: GIA, SA No. 7474; PI No. AF2-352; Cancellation of ISA, SA 2550; Queue No. S28 to be effective 12/19/2024.

Filed Date: 1/21/25.

Accession Number: 20250121-5103.

Comment Date: 5 p.m. ET 2/11/25.

Docket Numbers: ER25-975-000.

Applicants: Kingman Energy Storage LLC.

Description: Initial Rate Filing: Market-Based Rate Application to be effective 3/23/2025.

Filed Date: 1/21/25.

Accession Number: 20250121-5135.

Comment Date: 5 p.m. ET 2/11/25.

Docket Numbers: ER25-976-000.

Applicants: PJM Interconnection, L.L.C.

Description: § 205(d) Rate Filing: Original GIA Service Agreement No. 7472; Project Identifier No. AF1-090 to be effective 12/19/2024.

Filed Date: 1/21/25.

Accession Number: 20250121-5139.

Comment Date: 5 p.m. ET 2/11/25.

Docket Numbers: ER25-977-000.

Applicants: Midcontinent Independent System Operator, Inc.

Description: § 205(d) Rate Filing: 2025-01-21_SA 4433 ITC Transmission-DTE Electric GIA (Belle River Power Plant) to be effective 1/13/2025.

Filed Date: 1/21/25.

Accession Number: 20250121-5149.

Comment Date: 5 p.m. ET 2/11/25.

Docket Numbers: ER25-978-000.

Applicants: Great River Energy.

Description: § 205(d) Rate Filing: 2025-01-21_SA 4430 GRE-SMMPA TIA (Medford Substation) to be effective 1/17/2025.

Filed Date: 1/21/25.

Accession Number: 20250121-5151.

Comment Date: 5 p.m. ET 2/11/25.

Docket Numbers: ER25-979-000.

Applicants: PJM Interconnection, L.L.C.

Description: § 205(d) Rate Filing: Original GIA Service Agreement No. 7473; Project Identifier #AF2-408 to be effective 12/20/2024.

Filed Date: 1/21/25.

Accession Number: 20250121-5159.

Comment Date: 5 p.m. ET 2/11/25.

Docket Numbers: ER25-980-000.

Applicants: PJM Interconnection, L.L.C.

Description: § 205(d) Rate Filing: Correction to Original GIA, SA No. 7399; Project Identifier No. AF2-233 to be effective 10/16/2024.

Filed Date: 1/21/25.

Accession Number: 20250121-5180.

Comment Date: 5 p.m. ET 2/11/25.

Take notice that the Commission received the following electric securities filings:

Docket Numbers: ES25-28-000; ES25-29-000.

Applicants: Dominion Energy South Carolina, Inc., South Carolina Generating Company, Inc.

Description: Application Under Section 204 of the Federal Power Act for Authorization to Issue Securities of Dominion Energy South Carolina, Inc., et al.

Filed Date: 1/17/25.

Accession Number: 20250117-5228.

Comment Date: 5 p.m. ET 2/7/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 21, 2025.
Carlos D. Clay,
Deputy Secretary.

[FR Doc. 2025-01763 Filed 1-24-25; 8:45 am]

BILLING CODE 6717-01-P